DEPARTMENT OF AGRICULTURE

Animal and Plant Health Inspection Service

[Docket No. APHIS-2018-0107]

Notice of Request for Revision to and Extension of Approval of an Information Collection; Location of Irradiation Treatment Facilities in the United States

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the location of irradiation treatment facilities in the United States.

DATES: We will consider all comments that we receive on or before April 22, 2019.

ADDRESSES: You may submit comments by either of the following methods:

• Federal eRulemaking Portal: Go to http://www.regulations.gov/#!docketDetail;D=APHIS-2018-0107.

• Postal Mail/Commercial Delivery: Send your comment to Docket No. APHIS-2018-0107, Regulatory Analysis and Development, PPD, APHIS, Station 3A-03.8, 4700 River Road, Unit 118, Riverdale, MD 20737-1238.

Supporting documents and any comments we receive on this docket may be viewed at http://www.regulations.gov/#!docketDetail;D=APHIS-2018-0107 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the location of irradiation treatment facilities in the United States, contact Dr. Robert Baca, Assistant Director, Compliance and Environmental Coordination, PPQ, APHIS, 4700 River Road, Unit 150, Riverdale, MD 20737-1231; (301) 851-2292. For more detailed information on the information collection, contact Ms. Kimberly Hardy, APHIS' Information Collection Coordinator, at (301) 851-2483.

SUPPLEMENTARY INFORMATION:

Title: Location of Irradiation Treatment Facilities in the United States.

OMB Control Number: 0579-0383.

Type of Request: Revision to and extension of approval of an information collection.

Abstract: The regulations contained in 7 CFR part 305 (referred to below as the regulations) set out the general requirements for performing treatments and certifying or approving treatment facilities for fruits, vegetables, and other articles to prevent the introduction or dissemination of plant pests or noxious weeds into or through the United States. The Animal and Plant Health Inspection Service (APHIS) of the U.S. Department of Agriculture administers these regulations.

Section 305.9 provides generic criteria for new irradiation treatment facilities in the United States to be located anywhere in the United States, subject to approval. APHIS also allows the irradiation treatment of certain imported fruit from various countries upon arrival in the United States. The regulations facilitate the importation of commodities requiring irradiation treatment while continuing to provide protection against the introduction of pests of concern into the United States.

The information collection activities associated with the location of irradiation facilities include request for initial certification and inspection of facility, certification and recertification, denial and withdrawal of certification, compliance agreements, irradiation facilities treating imported articles, irradiation treatment framework equivalency workplan, irradiation facilities notification, recordkeeping, facility contingency plan, letter of concurrence or non-agreement, treatment arrangements, pest management plan, and facility layout map. In addition, each facility must provide APHIS with an updated map identifying places where horticultural or other crops are grown within 4 square miles of the facility.

We are asking the Office of Management and Budget (OMB) to approve our use of these information collection activities, as described, for an additional 3 years.

The purpose of this notice is to solicit comments from the public (as well as affected agencies) concerning our information collection: These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 3.13 hours per response.

Respondents: Irradiation facilities in the United States, State governments, importers, and foreign government and national plant protection organization officials.

Estimated annual number of respondents: 19.

Estimated annual number of responses per respondent: 16.6.

Estimated annual number of responses: 315.

Estimated total annual burden on respondents: 987 hours. (Due to averaging, the total annual burden hours may not equal the product of the annual number of responses multiplied by the reporting burden per response.)

All responses to this notice will be summarized and included in the request for OMB approval. All comments will also become a matter of public record.

Done in Washington, DC, this 14th day of February 2019.
Kevin Shea,
Administrator, Animal and Plant Health Inspection Service.

[FR Doc. 2019-02848 Filed 2-20-19; 8:45 am]

BILLING CODE 3410-34-P